DEPARTMENT OF TRANSPORTATION

Federal Aviation Administration

14 CFR Part 39

[Docket No. FAA-2005-22810; Directorate Identifier 2005-NM-143-AD; Amendment 39-14458; AD 2006-02-06]

RIN 2120-AA64

Airworthiness Directives; Airbus Model A310-203, -204, and -222 Airplanes, and Model A310-300 Series Airplanes

AGENCY: Federal Aviation Administration (FAA), Department of Transportation (DOT).

ACTION: Final rule.

SUMMARY: The FAA is adopting a new airworthiness directive (AD) for certain Airbus Model A310-203, -204, and -222 airplanes, and Model A310-300 series airplanes. This AD requires a one-time rototest inspection for cracking of the frame foot and adjacent frames and skin in the area surrounding the frame foot run-outs from fuselage frames (FR) 43 through FR 46, and repair if necessary. This AD also requires modification of certain fastener holes. This AD results from a structural evaluation of Model A310 airplanes for widespread fatigue damage of the frame foot run-outs from FR 43 through FR 46. The evaluation revealed that, on in-service airplanes, undetected cracking in this area can lead to the rupture of the frame foot and subsequent cracking of the adjacent frames and fuselage skin. We are issuing this AD to prevent fatigue cracking of the frame foot run-outs, which could lead to rupture of the frame foot and cracking in adjacent frames and skin, and result in reduced structural integrity of the fuselage.

DATES: This AD becomes effective February 24, 2006.

The Director of the Federal Register approved the incorporation by reference of a certain publication listed in the AD as of February 24, 2006.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Dan Rodina, Aerospace Engineer, International Branch, ANM-116, Transport Airplane Directorate, FAA, 1601 Lind Avenue, SW., Renton, Washington 98055-4056; telephone (425) 227-2125; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus Model A310-203, -204, and -222 airplanes, and Model A310-300 series airplanes. That NPRM was published in the Federal Register on October 27, 2005 (70 FR 61924). That NPRM proposed to require a one-time rototest inspection for cracking of the frame foot and adjacent frames and skin in the area surrounding the frame foot run-outs from fuselage frames (FR) 43 through FR 46, and repair if necessary. The NPRM also proposed to require modification of certain fastener holes.

Comments

We provided the public the opportunity to participate in the development of this AD. We have considered the single comment received.

Request for Clarification of Service Bulletin Reference

The commenter states that a reference to Airbus Service Bulletin A310-53-2124, dated April 4, 2005, was omitted in paragraph (f) of the NPRM. We agree with the commenter. We inadvertently omitted the service bulletin number in paragraph (f); that error has been corrected in this final rule.

Conclusion

We have carefully reviewed the available data, including the comment received, and determined that air safety and the public interest require adopting the AD with the change described previously. This change will neither increase the economic burden on any operator nor increase the scope of the AD.

Costs of Compliance

This AD will affect about 59 airplanes of U.S. registry. The actions will take about 31 work hours per airplane, at an average labor rate of $65 per work hour. Required parts will cost about $1,730 per kit (two kits per airplane). Based on these figures, the estimated cost of the AD for U.S. operators is $323,025, or $5,475 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-02-06 Airbus: Amendment 39-14458. Docket No. FAA-2005-22810; Directorate Identifier 2005-NM-143-AD.

Effective Date

(a) This AD becomes effective February 24, 2006.

Affected ADs

(b) None.

Applicability

(c) This AD applies to Airbus Model A310-203, -204, and -222 airplanes, and Model A310-304, -322, -324, and -325 airplanes; certificated in any category; except those airplanes on which Airbus Modification 13023 has been accomplished in production.

Unsafe Condition

(d) This AD results from a structural evaluation of Model A310 airplanes for widespread fatigue damage of the frame foot run-outs from frame (FR) 43 through FR 46. We are issuing this AD to prevent fatigue cracking of the frame foot run-outs, which could lead to rupture of the frame foot and cracking in adjacent frames and skin, and result in reduced structural integrity of the fuselage.

Compliance

(e) You are responsible for having the actions required by this AD performed within the compliance times specified, unless the actions have already been done.

Inspection/Repair/Modification

(f) At the later of the times specified in paragraphs (f)(1) and (f)(2) of this AD, perform a one-time rototest inspection for cracking of the frame foot and adjacent frames and skin in the area surrounding the frame foot run-outs from fuselage frame FR 43 through FR 46 by doing all the applicable actions specified in the Accomplishment Instructions of Airbus Service Bulletin A310-53-2124, dated April 4, 2005. Except as required by paragraph (g) of this AD, repair any cracking before further flight in accordance with the Accomplishment Instructions of the service bulletin. Before further flight after performing the inspection, modify the fastener holes located between FR 43 and FR 46 on the center box and on the upper fuselage bent sections in accordance with the Accomplishment Instructions of the service bulletin.

(1) Before the accumulation of the total flight-cycle or flight-hour threshold, whichever is first, specified in the Accomplishment Timescale table in paragraph 1.E.(2), “Compliance” of the service bulletin.

(2) At the earlier of the times specified in paragraphs (f)(2)(i) and (f)(2)(ii) of this AD.

(i) Before the accumulation of the total flight-cycle or flight-hour threshold, whichever is first, specified in Notes 01, 02, and 03 in paragraph 1.E.(2), “Compliance” of the service bulletin, after the effective date of this AD.

(ii) Within 3,000 flight cycles after the effective date of this AD.

Repair Per FAA or Direction Générale de l'Aviation Civile (DGAC)

(g) For any cracking found during any inspection required by this AD for which the service bulletin specifies to contact the manufacturer for an appropriate repair: Before further flight, repair in accordance with a method approved by the Manager, International Branch, ANM-116, Transport Airplane Directorate, FAA; or the DGAC (or its delegated agent).

Alternative Methods of Compliance (AMOCs)

(h)(1) The Manager, International Branch, ANM-116, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(i) French airworthiness directive F-2005-078, dated May 11, 2005, also addresses the subject of this AD.

Material Incorporated by Reference

(j) You must use Airbus Service Bulletin A310-53-2124, dated April 4, 2005, to perform the actions that are required by this AD, unless the AD specifies otherwise. The Director of the Federal Register approved the incorporation by reference of this document in accordance with 5 U.S.C. 552(a) and 1 CFR part 51. Contact Airbus, 1 Rond Point Maurice Bellonte, 31707 Blagnac Cedex, France, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on January 10, 2006.
Ali Bahrami,
Manager, Transport Airplane Directorate, Aircraft Certification Service.

[FR Doc. 06-465 Filed 1-19-06; 8:45 am]

BILLING CODE 4910-13-P